Title 3—

The President

Proclamation 10958 of July 17, 2025

Regulatory Relief for Certain Stationary Sources To Promote American Iron Ore Processing Security

By the President of the United States of America

A Proclamation

1. Taconite iron ore processing is fundamental to the United States' steel production and manufacturing sectors. The facilities involved in the process supply essential raw materials used to make steel, which is used in national defense systems, critical infrastructure, and a broad range of industrial applications. Preserving and enhancing domestic taconite processing capabilities is vital to reducing reliance on foreign sources and ensuring resilience of American industrial supply chains.

2. On March 6, 2024, the Environmental Protection Agency published a final rule, pursuant to section 112 of the Clean Air Act, 42 U.S.C. 7412, titled National Emission Standards for Hazardous Air Pollutants: Taconite Iron Ore Processing, 89 FR 16408 (Taconite Rule). The Taconite Rule imposes new emissions-control requirements on taconite iron ore processing facilities.

3. The Taconite Rule places significant burdens on a sector critical to the Nation's industrial foundation. The Taconite Rule mandates compliance with standards that rely on emissions-control technologies that have not been demonstrated to work in the taconite industry, are untested at commercial scale, or are not reasonably achievable under current operational conditions. If enforced under the current timeline as set forth at 89 FR 16408, the Taconite Rule risks forcing shutdowns, reducing domestic production, and undermining the Nation's ability to supply steel for defense, energy, and critical manufacturing. The United States must not allow inflexible regulatory deadlines to jeopardize a material critical to our industrial base. Maintaining this capacity is essential to our national security and economic resilience.

NOW, THEREFORE, I, DONALD J. TRUMP, President of the United States of America, by the authority vested in me by the Constitution and the laws of the United States, including section 112(i)(4) of the Clean Air Act, 42 U.S.C. 7412(i)(4), do hereby proclaim that certain stationary sources subject to the Taconite Rule, as identified in Annex I of this proclamation, are exempt from compliance with the Taconite Rule for a period of 2 years beyond the Taconite Rule's relevant compliance dates (Exemption). The technology to implement the Taconite Rule is not currently available, and it is necessary to issue this Exemption now because long design, permitting, and construction lead times mean that regulated entities will not be able to meet the relevant compliance deadlines absent compliance relief. This Exemption applies to all compliance deadlines established under the Taconite Rule, with each such deadline extended by 2 years from the date originally required for such deadline. The effect of this Exemption is that, during each such 2-year period, these stationary sources are subject to the emissions and compliance obligations that they are currently subject to under the applicable standard as that standard existed prior to the Taconite Rule. In support of this Exemption, I hereby make the following determinations:

a. The technology to implement the Taconite Rule is not available. Such technology does not exist in a commercially viable form sufficient to allow implementation of and compliance with the Taconite Rule by the compliance dates in the Taconite Rule.

b. It is in the national security interests of the United States to issue this Exemption for the reasons stated in paragraphs 1 and 3 of this proclamation.

IN WITNESS WHEREOF, I have hereunto set my hand this seventeenth day of July, in the year of our Lord two thousand twenty-five, and of the Independence of the United States of America the two hundred and fiftieth.

Billing code 3395-F4-P

[FR Doc. 2025-13923

Filed 7-22-25; 11:15 am]

Billing code 3395-F4-C